INTERNATIONAL TRADE COMMISSION

[Investigation Nos. 701-TA-706, 708-709 and 731-TA-1667, 1669-1670, 1672 (Final)]

Melamine From Germany, Japan, Netherlands, Qatar, and Trinidad and Tobago

Determinations

On the basis of the record ¹ developed in the subject investigations, the United States International Trade Commission (“Commission”) determines, pursuant to the Tariff Act of 1930 (“the Act”), that an industry in the United States is materially injured by reason of imports of melamine, provided for in subheading 2933.61.00 of the Harmonized Tariff Schedule of the United States, from Germany, Japan, and Netherlands that have been found by the U.S. Department of Commerce (“Commerce”) to be sold in the United States at less than fair value (“LTFV”) and by reason of imports of melamine from Germany and Qatar that that have been found by Commerce to be subsidized by the governments of Germany and Qatar.2 3 The Commission also determines that an industry in the United States is threatened with material injury by reason of imports of melamine from Trinidad and Tobago that have been found by Commerce to be sold in the United States at LTFV and subsidized by the government of Trinidad and Tobago.⁴

¹ The record is defined in § 207.2(f) of the Commission's Rules of Practice and Procedure (19 CFR 207.2(f)).

² 89 FR 97584, 97586, 97590, 97593, and 97601 (December 9, 2024). Commerce also found that imports of melamine from Qatar were not being sold at LTFV (89 FR 97592, December 9, 2024). On December 20, 2024, the Commission published notice of its termination of the antidumping duty investigation on imports of melamine from Qatar (89 FR 104206).

³ The Commission also finds that imports subject to Commerce's affirmative critical circumstances determination are not likely to undermine seriously the remedial effect of the antidumping duty order on melamine from Japan. Having made a determination that an industry in the United States is threatened with material injury by reason of imports of melamine from Trinidad and Tobago, the Commission did not reach the issue of critical circumstances regarding subject imports from Trinidad and Tobago.

⁴ 89 FR 97598 and 97599 (December 9, 2024). The Commission further determines that it would not have found material injury by reason of subject imports from Trinidad & Tobago but for the suspension of liquidation of entries of subject merchandise from Trinidad & Tobago. See 19 U.S.C. 1673d(b)(4)(B).

Background

The Commission instituted these investigations effective February 14, 2024, following receipt of petitions filed with the Commission and Commerce by Cornerstone Chemical Company, Waggaman, Louisiana. The final phase of the investigations was scheduled by the Commission following notification of preliminary determinations by Commerce that imports of melamine from Germany, India, Qatar, and Trinidad and Tobago were subsidized within the meaning of section 703(b) of the Act (19 U.S.C. 1671b(b)) and that imports of melamine from Germany, India, Japan, Netherlands, Qatar, and Trinidad and Tobago were sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on September 30, 2024 (89 FR 79637). The Commission conducted its hearing on December 3, 2024. All persons who requested the opportunity were permitted to participate.

The Commission made these determinations pursuant to §§ 705(b) and 735(b) of the Act (19 U.S.C. 1671d(b) and 19 U.S.C. 1673d(b)). It completed and filed its determinations in these investigations on January 23, 2025. The views of the Commission are contained in USITC Publication 5577 (January 2025), entitled Melamine from Germany, Japan, Netherlands, Qatar, and Trinidad and Tobago: Investigation Nos. 701-TA-706, 708-709 and 731-TA-1667, 1669-1670, 1672 (Final).

By order of the Commission.
Issued: January 23, 2025.
Lisa Barton,
Secretary to the Commission.

[FR Doc. 2025-01858 Filed 1-28-25; 8:45 am]

BILLING CODE 7020-02-P